DEPARTMENT OF THE TREASURY

Office of the Comptroller of the Currency

Office of Thrift Supervision

Federal Deposit Insurance Corporation

Agency Information Collection Activities: Submission for OMB Review; Comment Request

AGENCIES: Office of the Comptroller of the Currency (OCC) and Office of Thrift Supervision (OTS), Treasury; and Federal Deposit Insurance Corporation (FDIC).

ACTION: Joint notice and request for comment.

SUMMARY: The OCC, FDIC, and OTS (collectively, the Agencies), hereby give notice that they are submitting the information collections contained in their respective Community Reinvestment Act regulations to the Office of Management and Budget (OMB), in accordance with the Paperwork Reduction Act of 1995 (44 U.S.C. 3501 et seq.). The Agencies may not conduct or sponsor, and a respondent is not required to respond to, an information collection unless the information collection displays a currently valid OMB control number.

DATES: You should submit your comments to the Agencies and the OMB Desk Officer by November 1, 2002.

ADDRESSES: You should direct comments to:

OCC: Public Information Room, Office of the Comptroller of the Currency, Mailstop 1-5, Attention: 1557-0160, 250 E Street, SW., Washington, DC 20219. Due to delays in the OCC's mail service since September 11, 2001, commenters are encouraged to submit comments by fax or e-mail. Comments may be sent by fax to (202) 874-4448, or by e-mail to regs.comments@occ.treas.gov. You can inspect and photocopy the comments at the OCC's Public Information Room, 250 E Street, SW., Washington, DC 20219. You can make an appointment to inspect the comments by calling (202) 874-5043.

FDIC: Tamara Manly, Management Analyst, Legal Division, Room MB-3109, Attention: Comments/Legal, Federal Deposit Insurance Corporation, 550 17th Street, NW., Washington, DC 20429. All comments should refer to “Community Reinvestment Act Regulation, 3064-0092.” Comments may be hand-delivered to the guard station at the rear of the 550 17th Street Building (located on F Street), on business days between 7:00 a.m. and 5:00 p.m. [Fax number (202) 898-3838; Internet address: comments@fdic.gov]. Comments may be inspected and photocopied in the FDIC Public Information Center, Room 100, 801 17th Street, NW., Washington, DC between 9:00 a.m. and 4:30 p.m. on business days.

OTS: Send comments, referring to the collection by title of the proposal or by OMB approval number to Information Collection Comments, Chief Counsel's Office, Office of Thrift Supervision, 1700 G Street, NW., Washington, DC 20552. Comments may also be sent by fax to (202) 906-6518, or by e-mail to infocollection.comments@ots. treas.gov. OTS will post comments and the related index on the OTS Internet Site at www.ots.treas.gov. In addition, interested persons may inspect comments at the Public Reading Room, 1700 G Street, NW., by appointment. To make an appointment, call (202) 906-5922, send an e-mail to publicinfo@ots.treas.gov, or send a facsimile transmission to (202) 906-7755.

OMB Desk Officers for the Agencies: Joseph F. Lackey, Jr., Office of Information and Regulatory Affairs, Office of Management and Budget, New Executive Office Building, Room 10235, Washington, DC 20503, or e-mail to jlackeyj@omb.eop.gov.

FOR FURTHER INFORMATION CONTACT: You can request additional information from:

OCC: Jessie Dunaway, OCC Clearance Officer, (202) 874-4824, or Camille Dixon, (202) 874-5090, Legislative and Regulatory Activities Division, Office of the Comptroller of the Currency, 250 E Street, SW., Washington, DC 20219.

FDIC: Tamara Manly, Management Analyst, (202) 898-7453, Legal Division, Federal Deposit Insurance Corporation, 550 17th Street, NW., Washington, DC 20429.

OTS: Marilyn K. Burton, Clearance Officer, (202) 906-6467, Regulations and Legislation Division, Chief Counsel's Office, Office of Thrift Supervision, 1700 G Street, NW., Washington, DC 20552; by e-mail to marilyn.burton@ots.treas.gov; or by facsimile transmission to (202) 906-6518.

SUPPLEMENTARY INFORMATION: Comments: On May 30, 2002, the OCC, Board of Governors of the Federal Reserve Board, FDIC, and OTS published a joint request for comments on the proposed extension, without change, of OMB approval of the information collections contained in the CRA regulations (67 FR 37915).

The FDIC and OTS each received an identical comment from the same commenter. This commenter did not object to the proposed extension of OMB approval of the information collections contained in the CRA regulations. The commenter recommended that the Agencies (1) continue all existing data collection and reporting requirements; (2) maintain current public file requirements; and (3) do not consider or require any race data under CRA. Since these recommendations are not contrary to the proposed extension of OMB approval of the CRA information collections, the Agencies have not made any changes from the proposal in response to this comment.

Title:

OCC: Community Reinvestment Act Regulation—12 CFR part 25;

FDIC: Community Reinvestment Act;

OTS: Community Reinvestment Act.

OMB Control Numbers:

OCC: 1557-0160;

FDIC: 3064-0092;

OTS: 1550-0012.

Type of Review: Extension, without change, of a currently approved collection.

Form Number: None.

Abstract: This submission covers an extension of the Agencies' currently approved information collections in their CRA regulations (12 CFR part 25 (OCC), 12 CFR part 345 (FDIC), and 12 CFR part 563e (OTS)). The submission involves no change to the regulations or to the information collections.

The Agencies need the information collected to fulfill their obligations under the CRA (12 U.S.C. 2901 et seq.) to evaluate and assign ratings to the performance of institutions, in connection with helping to meet the credit needs of their communities, including low- and moderate-income neighborhoods, consistent with safe and sound banking practices. The Agencies use the information in the examination process and in evaluating applications for mergers, branches, and certain other corporate activities. Financial institutions maintain and provide the information to the Agencies.

Affected Public: Businesses or other for-profit.

Estimated Number of Respondents:

OCC: 2,141;

FDIC: 5,484;

OTS: 995.

Estimated Annual Responses:

OCC: 2,141;

FDIC: 5,484;

OTS: 995.

Estimated Annual Burden Hours:

OCC: 322,307;

FDIC: 607,603;

OTS: 200,964.

Frequency of Response: Annually.

Dated: September 25, 2002.
Mark J. Tenhundfeld,
Assistant Director, Legislative and Regulatory Activities Division, Office of the Comptroller of the Currency.

Dated at Washington, DC, this 25th day of September, 2002.
Federal Deposit Insurance Corporation.
Robert E. Feldman,
Executive Secretary.

Dated: September 24, 2002.
Deborah Dakin,
Deputy Chief Counsel, Regulations and Legislation Division, Office of Thrift Supervision.

[FR Doc. 02-24977 Filed 10-1-02; 8:45 am]

BILLING CODE 4810-33-P, 6741-01-P, 6720-01-P